DEPARTMENT OF ENERGY

Federal Energy Regulatory Commission

Combined Notice of Filings #1

Take notice that the Commission received the following electric corporate filings:

Docket Numbers: EC17-153-000.

Applicants: Bayshore Solar B, LLC.

Description: Application for Authorization Under Section 203 of the Federal Power Act, Request for Expedited Consideration and Confidential Treatment of Bayshore Solar B, LLC.

Filed Date: 8/7/17.

Accession Number: 20170807-5184.

Comments Due: 5 p.m. ET 8/28/17.

Docket Numbers: EC17-154-000.

Applicants: Sagebrush, a California partnership, Sagebrush Asset Holdings, LLC, Sky River LLC.

Description: Application For Authorization for Disposition of Jurisdictional Facilities and Request for Expedited Action of Sky River LLC, et. al.

Filed Date: 8/7/17.

Accession Number: 20170807-5190.

Comments Due: 5 p.m. ET 8/28/17.

Take notice that the Commission received the following electric rate filings:

Docket Numbers: ER14-2144-007; ER10-3308-026; ER11-2005-024; ER11-2007-021; ER11-2009-024; ER11-2011-024; ER11-2013-024; ER11-2014-024; ER11-2016-021; ER11-3989-020; ER12-1223-021; ER12-1829-016; ER12-2201-015; ER12-2311-015; ER12-2528-014; ER14-2145-007; ER16-2363-003.

Applicants: Beebe 1B Renewable Energy, LLC, Beebe Renewable Energy, LLC, Bluestem Wind Energy, LLC, Cassia Gulch Wind Park, LLC, Cow Branch Wind Power, LLC, CR Clearing, LLC, Criterion Power Partners, LLC, Fourmile Wind Energy, LLC, Harvest WindFarm, LLC, Harvest II Windfarm, LLC, High Mesa Energy, LLC, Michigan Wind 1, LLC, Michigan Wind 2, LLC, Shooting Star Wind Project, LLC, Tuana Springs Energy, LLC, Wildcat Wind, LLC, Wind Capital Holdings, LLC.

Description: Notice of Change in Status of the Exelon Sellers.

Filed Date: 8/7/17.

Accession Number: 20170807-5199.

Comments Due: 5 p.m. ET 8/28/17.

Docket Numbers: ER17-795-002.

Applicants: ISO New England Inc.

Description: Tariff Amendment: ISO-NE Filing to Re-Establish Statutory Action Date to be effective 3/15/2017.

Filed Date: 8/8/17.

Accession Number: 20170808-5034.

Comments Due: 5 p.m. ET 8/29/17.

Docket Numbers: ER17-2256-000.

Applicants: Southwest Power Pool, Inc.

Description: § 205(d) Rate Filing: Cost Allocation for Brookline and Morgan Transmission Projects (Part 1 of 2) to be effective 10/6/2017.

Filed Date: 8/7/17.

Accession Number: 20170807-5173.

Comments Due: 5 p.m. ET 8/28/17.

Docket Numbers: ER17-2257-000.

Applicants: Southwest Power Pool, Inc.

Description: § 205(d) Rate Filing: Cost Allocation for Brookline and Morgan Transmission Projects (Part 2 of 2) to be effective 10/6/2017.

Filed Date: 8/7/17.

Accession Number: 20170807-5175.

Comments Due: 5 p.m. ET 8/28/17.

Docket Numbers: ER17-2258-000.

Applicants: Rock Falls Wind Farm LLC.

Description: Baseline eTariff Filing: Rock Falls Wind Farm Initial Market-Based Rate Application Filing to be effective 10/7/2017.

Filed Date: 8/7/17.

Accession Number: 20170807-5180.

Comments Due: 5 p.m. ET 8/28/17.

Docket Numbers: ER17-2259-000.

Applicants: Seville Solar One LLC.

Description: § 205(d) Rate Filing: Revised SLA Rate Schedule No. 2 to be effective 8/8/2017.

Filed Date: 8/7/17.

Accession Number: 20170807-5181.

Comments Due: 5 p.m. ET 8/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2017.
Nathaniel J. Davis, Sr.,
Deputy Secretary.

[FR Doc. 2017-17087 Filed 8-11-17; 8:45 am]

BILLING CODE 6717-01-P